DEPARTMENT OF HEALTH AND HUMAN SERVICES

National Institutes of Health

Prospective Grant of a Co-Exclusive License: Adenovirus-Based Controls and Calibrators for Molecular Diagnostics of Infectious Disease Agents

AGENCY: National Institutes of Health, Public Health Service, HHS.

ACTION: Notice.

SUMMARY: This is notice, in accordance with 35 U.S.C. 209(c)(1) and 37 CFR 404.7(a)(1)(i), that the National Institutes of Health (NIH), Department of Health and Human Services (HHS), is contemplating the grant of a worldwide co-exclusive license, to practice the inventions embodied in US patent 6,013,638 (HHS Reference# E-129-1991/0-US-03), issued January 11, 2000 and entitled “Adenovirus Comprising Deletions on the E1A, E1B And E3 Regions for Transfer of Genes to the Lung”, and US patent 6,136,594 (HHS Reference# E-129-1991/1-US-03), issued October 24, 2000, and entitled “Replication Deficient Recombinant Adenovirus Vector” to Life Technologies Corporation (LTC) of Carlsbad, California. The United States of America is an assignee of the rights of the above inventions.

The field of use may be limited to the “use of adenovirus-based recombinant constructs as controls and calibrators for molecular diagnostics for infectious disease agents.”

DATES: Only written comments and/or applications for a license received by the NIH Office of Technology Transfer on or before February 19, 2013 will be considered.

ADDRESSES: Requests for a copy of the patent application, inquiries, comments and other materials relating to the contemplated license should be directed to: Uri Reichman, Ph.D., M.B.A, Office of Technology Transfer, National Institutes of Health, 6011 Executive Boulevard, Suite 325, Rockville, MD 20852-3804; Telephone: (301) 435-4616; Facsimile: (301) 402-0220; Email: Reichmau@mail.nih.gov.

SUPPLEMENTARY INFORMATION: The invention relates to recombinant adenovirus vectors containing foreign DNA. Such vectors can be used for gene transfer, therapeutics, and protein expression. The technology can also be utilized to make calibrators and controls for molecular diagnostics (e.g. real time PCR tests).

The prospective co-exclusive license will comply with the terms and conditions of 35 U.S.C. 209 and 37 CFR 404.7. The prospective co-exclusive license may be granted unless, within thirty (30) days from the date of this published notice, NIH receives written evidence and argument that establishes that the grant of the license would not be consistent with the requirements of 35 U.S.C. 209 and 37 CFR 404.7.

Dated: January 11, 2013.
Richard U. Rodriguez,
Director, Division of Technology Development and Transfer, Office of Technology Transfer, National Institutes of Health.

[FR Doc. 2013-00878 Filed 1-16-13; 8:45 am]

BILLING CODE 4140-01-P